DEPARTMENT OF HOMELAND SECURITY

Coast Guard

33 CFR Part 165

[COTP Savannah-04-041]

RIN 1625-AA00

Security Zone, St. Simons Sound and the Atlantic Ocean, GA

AGENCY: Coast Guard, DHS.

ACTION: Notice of proposed rulemaking.

SUMMARY: The Coast Guard proposes to establish temporary security zones, from June 5, 2004, through June 11, 2004, for the G-8 Summit to be held in Sea Island, Georgia. These proposed security zones are required to provide for the security of the public, the G-8 Summit and its participants, and the safety of the waterways due to the potential for hostile and violent acts from demonstrators protesting the G-8 conference. The proposed rule would prohibit the entry of all vessels and persons into the waters in the vicinity of Sea Island, Jekyll Island, and all waters of the Atlantic Ocean from the baseline of Sea Island and Jekyll islands extending seaward to a distance of 3 nautical miles, as well as waters on the Hampton River, Jones Creek, Lanier Island, St. Simons Sound, and the security zones prohibit entering closer than 100-yards to certain bridges within these same areas.

DATES: Comments and related material must reach the Coast Guard on or before May 10, 2004. The proposed security zones would be effective from 8 a.m. on June 5, 2004, until 4 p.m. on June 11, 2004.

ADDRESSES: You may mail comments and the related material to Marine Safety Office Savannah, 100 W. Oglethorpe Ave., Suite 1017, Savannah, Georgia 31401. Marine Safety Office Savannah maintains the public docket for this rulemaking. Comments and material received from the public, as well as documents indicated in this preamble as being available in the docket, will become part of this docket and will be available for inspection or copying at Marine Safety Office Savannah between 8 a.m. and 4 p.m., Monday through Friday, except Federal holidays.

FOR FURTHER INFORMATION CONTACT: LTJG Anthony Quirino, Coast Guard Marine Safety Office Savannah, (912) 652-4353, ext 235.

SUPPLEMENTARY INFORMATION:

Request for Comments

We encourage you to participate in this rulemaking by submitting comments and related material. If you do so, please include your name and address, identify the docket number for this rulemaking [COTP Savannah 04-041], indicate the specific section of this document to which each comment applies, and give the reason for each comment. Please submit all comments and related material in an unbound format, no larger than 8½ by 11 inches, suitable for copying. If you would like to know that your submission reached us, please enclose a stamped, self-addressed postcard or envelope. We will consider all comments and material received during the comment period. We may change this proposed rule due to the comments received.

Public Meeting

We do not now plan to hold a public meeting. Persons may submit a request for a public meeting by submitting a written request to Marine Safety Office Savannah at the address listed in the ADDRESSES section of this notice of proposed rulemaking. This request should describe the benefits of a public meeting. If we determine that a public meeting would aid this rulemaking, we will hold one at a time and place announced by a separate notice in the Federal Register.

Background and Purpose

The G8 (Group of 8) is an informal group of eight countries—Canada, France, Germany, Italy, Japan, Russia, the United Kingdom and the United States—whose leaders meet to discuss broad economic and foreign policies. The 30th G-8 Summit will be held in Sea Island, Georgia, from June 8 through June 10, 2004.

Cities that have recently hosted conferences or summits similar to the G-8 Summit have experienced significant property damage, and their law enforcement officers and public citizens have sustained personal injuries from a segment of protestors engaged in violent demonstrations against those summits and their agendas. Examples include the September 2003 World Trade Organization (WTO) Ministerial in Cancun, Mexico; the 2003 G-8 Summit in Calgary, Canada, the 2001 G-8 Summit in Genoa, Italy; and the 1999 World Trade Organization in Seattle, Washington. These conferences and summits experienced an influx of protestors, and in particular protest groups opposing international trade who have a propensity for violence and a desire to engage in hostile acts against, among others, summit attendees, conference venues, the general public, business and municipal buildings, and law enforcement officials. Information and intelligence indicates that there is a high potential for similar acts to be attempted during the upcoming June G-8 Summit in Savannah, Georgia.

This history has heightened the need for the development and implementation of various security measures in the vicinity of St. Simons Sound. In particular, there is a need for additional security around venue areas established for the dignitaries and official parties attending the G-8 Summit, bridges, and waterways used by commercial shipping. The Coast Guard has determined from information provided by local, State, and Federal law enforcement officials that vessels or persons in close proximity to the G-8 Summit may launch hostile or violent acts from the waterways adjacent to the Summit and from the waterways adjacent to where Summit attendees are staying. The potential for these acts poses a security threat to the public, the G-8 Summit and its participants, and the flow of commerce on the navigable waterways.

The proposed security zones would mitigate these threats and are necessary to protect the public, the G-8 Summit attendees, law enforcement officers, and the flow of commerce on the waterways from persons attempting hostile and violent acts. Please note that elsewhere in today's Federal Register, we have published another proposed rule, entitled “Security Zones and Regulated Navigation Areas; Savannah River, GA,” [COTP Savannah-04-040] that is also intended to provide security of the public, the G-8 Summit and its participants, and the safety of the waterways during this same period—June 5, 2004, until 4 p.m. on June 11, 2004.

Discussion of Proposed Rule

The proposed security zones prohibit all vessels and persons from entering the waters encompassed by the following points unless they obtain permission in advance from the Captain of the Port of Savannah to transit the zones: All waters of St. Simons Sound and the Atlantic Ocean, from surface to bottom, encompassed by a line commencing from the north east point of Little St. Simons Island at 31°15′24″ N, 081°16′55″ W; thence, easterly seaward into the waters of the Atlantic Ocean out to a distance of 3 nautical miles at 31°15′24″ N, 081°11′55″ W; thence southerly following the contour of the coastline at a distance of 3 nautical miles to 31°00′44″ N, 081°19′35″ W; thence westerly to the southern tip of Jekyll Island at 31°00′44″ N, 081°26′03″ W; thence north westerly to the south side of the Sidney Lanier bridge at 31°06′48″ N, 081°29′40″ W; thence continuing north easterly to the northern tip of Lanier Island at 31°11′06″ N, 081°25′17″ W; thence continuing north easterly to the Hampton River at 31°17′36″ N, 081°20′33″ W; thence back to the original point.

Additionally, the following bridges would have security zones, to the extent they are not already within the St. Simons sound security zone, encompassing all waters within 100-yards of the bridge:

Roadway | Bridge | Located at
Jekyll Island Causeway | Cedar Creek | 31°05.318′ N, 081°28.780′ W.
Jekyll Island Causeway | Jekyll Creek | 31°02.808′ N, 081°25.347′ W.
Highway 17 | Sidney Lanier | 31°06.982′ N, 081°29.094′ W.
Saint Simons Causeway | Terry Creek | 31°09.697′ N, 081°28.137′ W.
Saint Simons Causeway | Back River | 31°09.868′ N, 081°26.766′ W.
Saint Simons Causeway | Little River | 31°10.120′ N, 081°26.200′ W.
Saint Simons Causeway | MacKay River | 31°10.276′ N, 081°25.494′ W.
Saint Simons Causeway | Frederica River | 31°10.050′ N, 081°24.782′ W.

Although the G-8 Summit is scheduled to take place from June 8 through June 10, 2004, it is necessary to make the security zones effective from June 5 through June 11, 2004 to provide security for arriving and departing G-8 summit attendees and allow law enforcement officials time to stand up and stand down from patrolling the security zones.

The Captain of the Port may, if security conditions allow, permit vessels to transit through the security zones under the escort of law enforcement officials. However, southbound vessels transiting the Intracoastal waterway should plan on exiting at Altamaha Sound to the Atlantic Ocean and proceed southbound seaward of 3 nautical miles and outside the 3 nautical mile limit of the security zone to the entrance of St. Andrew Sound, and then travel westward to rejoin the Intracoastal waterway and continue their southbound voyage. Conversely, northbound vessels transiting the Intracoastal waterway should generally plan to exit the Intracoastal waterway east from St. Andrew Sound to the Atlantic Ocean, and proceed northbound seaward of 3 nautical miles and the 3 nautical mile limit of the security zone to the entrance of Altamaha Sound, and then travel west to rejoin the Intracoastal waterway to continue their northbound voyage.

Entry into or remaining within the security zones is prohibited unless authorized by the Coast Guard Captain of the Port, Savannah, Georgia or that officer's designated representatives. Persons desiring to enter or transit the areas encompassed by the security zone may contact the Coast Guard on VHF Channel Marine 16 or at (912) 652-4353 to seek permission to enter or transit the area. If permission is granted, all persons and vessels must comply with the instructions of the Captain of the Port or that officer's designated representatives.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this proposed rule to be so minimal that a full Regulatory Evaluation under the regulatory policies and procedures of DHS is unnecessary.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: the owners or operators of vessels intending to transit or anchor in a portion of St. Simons Sound, the Intracoastal Waterway and the Atlantic Ocean covered by this proposed security zone. Owners of such small entities are encouraged to contact the Captain of the Port to seek permission to transit these security zones.

If you think that your business, organization, or governmental jurisdiction qualifies as a small entity and that this rule would have a significant economic impact on it, please submit a comment (see FOR FURTHER INFORMATION CONTACT) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the proposed rule would affect your small business, organization, or governmental jurisdiction and you have questions concerning its provisions or options for compliance, please contact the person listed under FOR FURTHER INFORMATION CONTACT.

Collection of Information

This proposed rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not an economically significant rule and does not create an environmental risk to health or risk to safety that may disproportionately affect children.

Indian Tribal Governments

This proposed rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this proposed rule under Commandant Instruction M16475.lD, which guides the Coast Guard in complying with the National Environmental Policy Act of 1969 (NEPA)(42 U.S.C. 4321-4370f), and have concluded that there are no factors in this case that would limit the use of a categorical exclusion under section 2.B.2 of the Instruction. Therefore, this proposed rule is categorically excluded, under figure 2-1, paragraph (34)(g), of the Instruction, from further environmental documentation.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1226, 1231; 50 U.S.C. 191, 195; 46 U.S.C. Chapter 701; 33 CFR 1.05-1(g), 6.04-1, 6.04-6, and 160.5; Pub. L. 107-295, 116 Stat. 2064; Department of Homeland Security Delegation No. 0170.1.

2. From 8 a.m. on June 5, 2004, until 4 p.m. on June 11, 2004, add a new temporary § 165.T07-041 to read as follows:

§ 165.T07-041 Temporary Security Zones, St. Simons Sound, GA

(a) Locations. The following areas are security zones:

(1) Security zone; St. Simons Sound and the Atlantic Ocean. All waters of St. Simons Sound and the Atlantic Ocean, from surface to bottom, encompassed by a line commencing from the north east point of Little St. Simons Island at 31°15′24″ N, 081°16′55″ W; thence, easterly seaward into the waters of the Atlantic Ocean out to a distance of 3 nautical miles at 31°15′24″ N, 081°11′55″ W; thence southerly following the contour of the coastline at a distance of 3 nautical miles to 31°00′44″ N, 081°19′35″ W; thence westerly to the southern tip of Jekyll Island at 31°00′44″ N, 081°26′03″ W; thence north westerly to the south side of the Sidney Lanier bridge at 31°06′48″ N, 081°29′40″ W; thence continuing north easterly to the northern tip of Lanier Island at 31°11′06″ N, 081°25′17″ W; thence continuing north easterly to the Hampton River at 31°17′36″ N, 081°20′33″ W; thence back to the original point. All coordinates are based upon North American Datum 83 (NAD 83).

(2) Security zone, Bridges. All waters from surface to bottom within 100-yards of the following bridges:

Roadway | Bridge | Located at
(i) Jekyll Island Causeway | Cedar Creek | 31°05.318′ N, 081°28.780′ W.
(ii) Jekyll Island Causeway | Jekyll Creek | 31°02.808′ N, 081°25.347′ W.
(iii) Highway 17 | Sidney Lanier | 31°06.982′ N, 081°29.094′ W.
(iv) Saint Simons Causeway | Terry Creek | 31°09.697′ N, 081°28.137′ W.
(v) Saint Simons Causeway | Back River | 31°09.868′ N, 081°26.766′ W.
(vi) Saint Simons Causeway | Little River | 31°10.120′ N, 081°26.200′ W.
(vii) Saint Simons Causeway | MacKay River | 31°10.276′ N, 081°25.494′ W.
(viii) Saint Simons Causeway | Frederica River | 31°10.050′ N, 081°24.782′ W.
(ix) All coordinates are based upon North American Datum 83 (NAD 83)

(b) Definitions. As used in this section, designated representatives means Coast Guard Patrol Commanders including Coast Guard coxswains, petty officers and other officers operating Coast Guard vessels, and Federal, State, and local officers designated by or assisting the Captain of the Port of Savannah (COTP) to restrict vessels and persons from entering the security zones.

(c) Regulations. Entry into or transiting within the security zones is prohibited unless authorized by the Coast Guard Captain of the Port, Savannah, Georgia or that officer's designated representatives. Vessels docked, moored, or anchored in one of the security zones when they become effective must remain in place unless ordered by or given permission from the COTP to do otherwise. Persons desiring to enter or transit the areas encompassed by the security zones may contact the Coast Guard on VHF Channel Marine 16 or at (912) 652-4353 to seek permission to enter or transit the zones. If permission is granted, all persons and vessels must comply with the instructions of the Captain of the Port or that officer's designated representatives.

Dated: March 30, 2004.
Harvey E. Johnson, Jr.,
Rear Admiral, U.S. Coast Guard, Commander, Seventh Coast Guard District.

[FR Doc. 04-7994 Filed 4-7-04; 8:45 am]

BILLING CODE 4910-15-P